DEPARTMENT OF TRANSPORTATION

Maritime Administration

[Docket No. DOT-MARAD 2014—0135]

Request for Comments of a Previously Approved Information Collection: Application and Reporting Elements for Participation in the Maritime Security Program

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on July 7, 2014 (Federal Register 38354, Vol. 79, No. 129).

DATES: Comments must be submitted on or before November 19, 2014.

FOR FURTHER INFORMATION CONTACT: Bill Kurfehs, 202-366-2318, Office of Sealift Support, Maritime Administration, U.S. Department of Transportation, 1200 New Jersey Avenue SE., Washington, DC, 20590.

SUPPLEMENTARY INFORMATION: Maritime Administration (MARAD)

Title: Application and Reporting Elements for Participation in the Maritime Security Program.

OMB Control Number: 2133-0525.

Type of Request: Renewal of a Previously Approved Information Collection.

Abstract: The Maritime Security Act of 2003, extended under Section 3508 of the National Defense Authorization Act for Fiscal Year 2013, Public Law 112-239, provides for the enrollment of qualified vessels in the Maritime Security Program Fleet. Applications and amendments are used to select vessels for the fleet. Periodic reporting is used to monitor adherence of contractors to program parameters.

Expiration Date of Approval: Three years from date of approval by the Office of Management and Budget.

Affected Public: Vessel Operators.

Estimated Number of Respondents: 15.

Estimated Number of Responses: 195.

Annual Estimated Total Annual Burden Hours: 210.

ADDRESSES: Send comments regarding the burden estimate, including suggestions for reducing the burden, to the Office of Management and Budget, Attention: Desk Officer for the Office of the Secretary of Transportation, 725 17th Street NW., Washington, DC 20503. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: October 14, 2014.
Julie P. Agarwal,
Secretary, Maritime Administration.

[FR Doc. 2014-24799 Filed 10-17-14; 8:45 am]

BILLING CODE 4910-81-P